DEPARTMENT OF COMMERCE

Foreign-Trade Zones Board

[Order No. 1938]

Reorganization of Foreign-Trade Zone 15 under Alternative Site Framework, Kansas City, Missouri

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Greater Kansas City Foreign Trade Zone, Inc., grantee of Foreign-Trade Zone 15, submitted an application to the Board (FTZ Docket B-93-2013, docketed 11-5-2013) for authority to reorganize under the ASF with a service area of Andrew, Bates, Buchanan, Caldwell, Carroll, Cass, Chariton, Clay, Clinton, Cooper, Daviess, DeKalb, Henry, Howard, Jackson, Johnson, Lafayette, Livingston, Pettis, Platte, Ray and Saline Counties, Missouri, in and adjacent to the Kansas City Customs and Border Protection port of entry, FTZ 15's existing Sites 1, 2, 3, 4, 7, 8, 14, 16 and 17 would be categorized as magnet sites, Sites 9, 10, 11, 13 and 15 would be categorized as usage-driven sites, and Sites 5 and 18 would be deleted;

Whereas, notice inviting public comment was given in the Federal Register (78 FR 67333-67334, 11-12-2013) and the application has been processed pursuant to the FTZ Act and the Board's regulations; and,

Whereas, the Board adopts the findings and recommendation of the examiner's report, and finds that the requirements of the FTZ Act and the Board's regulations are satisfied;

Now, therefore, the Board hereby orders:

The application to reorganize FTZ 15 under the ASF is approved, subject to the FTZ Act and the Board's regulations, including Section 400.13, to the Board's standard 2,000-acre activation limit for the zone, to a five-year ASF sunset provision for magnet sites that would terminate authority for Sites 1, 2, 4, 7, 8, 14, 16 and 17 if not activated by May 31, 2019, and to a three-year ASF sunset provision for usage-driven sites that would terminate authority for Sites 9, 10, 11, 13 and 15 if no foreign-status merchandise is admitted for a bona fide customs purpose by May 31, 2017.

Signed at Washington, DC, this 16th day of May 2014.
Ronald K. Lorentzen,
Acting Assistant Secretary of Commerce for Enforcement and Compliance, Alternate Chairman, Foreign-Trade Zones Board.
Attest:
Andrew McGilvray,
Executive Secretary.

[FR Doc. 2014-12050 Filed 5-23-14; 8:45 am]

BILLING CODE 3510-DS-P